FEDERAL RETIREMENT THRIFT INVESTMENT BOARD

Sunshine Act Notice

Time and Date: 9 a.m. (e.s.t.), March 21, 2005.

Place: 4th Floor Conference Room, 1250 H Street, NW., Washington, DC.

Status: Parts will be open to the public and parts closed to the public.

Matters To Be Considered:

Parts Open to the Public

1. Approval of the minutes of the February 22, 2005, Board member meeting.

2. Thrift Savings Plan activity report by the Executive Director.

3. Review of audit reports:

Employee Benefits Security Administration Review of the Thrift Savings Plan Loan Operations at the United States Department of Agriculture National Finance Center, June 11, 2004.

Employee Benefits Security Administration Review of the Thrift Savings Plan Account Maintenance, Forfeiture, Forfeiture Restoration and Interfund Transfer Processes at the United States Department of Agriculture National Finance Center, June 11, 2004.

Employee Benefits Security Administration Review of the Thrift Savings Plan Annuity Operations at the Metropolitan Life Insurance Company, July 9, 2004.

Employee Benefits Security Administration Review of the Thrift Savings Plan Participant Support Process at the United States Department of Agriculture National Finance Center, June 11, 2004.

4. Status of audit recommendations.

5. Department of Labor review of FY 2004 audit activity and FY 2005 audit plan.

6. Presentation on life cycle funds by Mercer Investment Consulting, Inc.

Parts Closed to the Public

Procurement.

FOR FURTHER INFORMATION CONTACT: Thomas J. Trabucco, Director, Office of External Affairs, (202) 942-1640.

Elizabeth S. Woodruff,
Secretary to the Board, Federal Retirement Thrift Investment Board.

[FR Doc. 05-5178 Filed 3-11-05; 12:18 pm]

BILLING CODE 6760-01-P